ENVIRONMENTAL PROTECTION AGENCY

40 CFR Part 180

[OPP-2005-0046; FRL-7727-7]

Spiromesifen; Pesticide Tolerance; Technical Correction

AGENCY: Environmental Protection Agency (EPA).

ACTION: Final rule; technical correction.

SUMMARY: EPA issued a final rule in the Federal Register of April 27, 2005, concerning tolerances for spiromesifen. This document is being issued to correct typographical errors regarding corn, sugar beet, and wheat tolerances in the tables of tolerances for 40 CFR Chapter I Part 180.607.

DATES: This final rule is effective on July 27, 2005.

ADRESSES: Follow the detailed instructions as provided under ADDRESSES in the Federal Register document of April 27, 2005.

FOR FURTHER INFORMATION CONTACT: Thomas Harris, Registration Division (7505C), Office of Pesticide Programs, Environmental Protection Agency, 1200 Pennsylvania Ave., NW., Washington, DC 20460-0001; telephone number: (703) 308-9423; e-mail address: Harris.Thomas@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using EDOCKET at http://www.epa.gov/edocket/, you may access this Federal Register document electronically through the EPA Internet under the “Federal Register” listings at http://www.epa.gov/fedrgstr/. A frequently updated electronic version of 40 CFR part 180 is available at E-CFR Beta Site Two at http://www.gpoaccess.gov/ecfr/.

II. What Does this Correction Do?

FR Doc. 05-8120 published in the Federal Register of April 27, 2005 (70 FR 21631) (FRL-7705-1) is being corrected to clarify errors that were made to the tables of tolerances for § 180.607. The tolerances for corn, sugar beet, and wheat were affected. Also, the table for indirect tolerances was moved from paragraph (a)(2) to paragraph (d).

III. Why is this Correction Issued as a Final Rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making today's technical correction final without prior proposal and opportunity for comment, because EPA is merely correcting language that was inadvertently mistyped in the previously published final rule. The correct text was present in the Supplemental Information Section of the April 27, 2005 final rule but mistyped in the tolerance table. EPA finds that this constitutes good cause under 5 U.S.C. 553(b)(B).

IV. Do Any of the Statutory and Executive Order Reviews Apply to this Action?

The applicable statutory and Executive Order reviews were included in the April 27, 2005 Federal Register document. This document is a technical correction and as such no new review requirements are applicable.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and record keeping requirements.

Dated: July 19, 2005.
James Jones,
Director, Office of Pesticide Programs.

Therefore, 40 CFR part 180 is amended as follows:

PART 180—AMENDED

1. The authority citation for part 180 continues to read as follows:

Authority: 21 U.S.C. 321(q), 346a and 371.

2. Section 180.607 is revised to read as follows:

§ 180.607 Spiromesifen; tolerances for residues.

(a) General. (1) Tolerances are established for the combined residues of spiromesifen (2-oxo-3-(2,4,6-trimethylphenyl)-1-oxaspiro[4.4]non-3-en-4-yl 3,3-dimethylbutanoate) and its enol metabolite (4-hydroxy-3-(2,4,6-trimethylphenyl)-1-oxaspiro[4.4]non-3-en-2-one), calculated as the parent compound equivalents in or on the following primary crop commodities:

Commodity | Parts per million
Corn, field, forage | 3.0
Corn, field, grain | 0.02
Corn, field, stover | 5.0
Cotton, gin byproducts | 15
Cotton, undelinted seed | 0.50
Strawberry | 2.0
Tomato, paste | 0.60
Vegetable, brassica, head and stem, subgroup 5A | 2.0
Vegetable, brassica, leafy greens, subgroup 5B | 12
Vegetable, cucurbit, group 9 | 0.10
Vegetable, fruiting, group 8 | 0.30
Vegetable, leafy greens, subgroup 4A | 12
Vegetable, tuberous and corm, subgroup 1C | 0.02

(2) Tolerances are established for the combined residues of spiromesifen (2-oxo-3-(2,4,6-trimethylphenyl)-1-oxaspiro[4.4]non-3-en-4-yl 3,3-dimethylbutanoate), and its metabolites containing the enol (4-hydroxy-3-(2,4,6-trimethylphenyl)-1-oxaspiro[4.4]non-3-en-2-one) and 4-hydroxymethyl (4-hydroxy-3-[4-(hydroxymethyl)-2,6-dimethylphenyl]-1-oxaspiro[4.4]non-3-en-2-one) moieties, calculated as the parent compound equivalents in the following livestock commodities:

Commodity | Parts per million
Cattle, fat | 0.05
Cattle, meat byproducts | 0.05
Goat, fat | 0.05
Goat, meat byproducts | 0.05
Horse, fat | 0.05
Horse, meat byproducts | 0.05
Milk, fat | 0.10
Sheep, fat | 0.05
Sheep, meat byproducts | 0.05

(b) Section 18 emergency exemptions. [Reserved]

(c) Tolerances with regional registrations. [Reserved]

(d) Indirect or inadvertent residues. Tolerances are established for the inadvertent or indirect combined residues of spiromesifen (2-oxo-3-(2,4,6-trimethylphenyl)-1- oxaspiro[4.4]non-3-en-4-yl 3,3-dimethylbutanoate), its enol metabolite (4-hydroxy-3-(2,4,6-trimethylphenyl)-1-oxaspiro[4.4]non-3-en-2-one), and its metabolites containing the 4-hydroxymethyl moiety (4-hydroxy-3-[4-(hydroxymethyl)-2,6-dimethylphenyl]-1-oxaspiro[4.4]non-3-en-2-one), calculated as the parent compound equivalents in the following rotational crop commodities:

Commodity | Parts per million
Alfalfa, forage | 1.5
Alfalfa, hay | 3.0
Barley, grain | 0.03
Barley, hay | 0.25
Barley, straw | 0.15
Beet, sugar, roots | 0.03
Beet, sugar, tops | 0.20
Wheat, forage | 0.20
Wheat, grain | 0.03
Wheat, hay | 0.15
Wheat, straw | 0.25

[FR Doc. 05-14865 Filed 7-26-05; 8:45 am]

BILLING CODE 6560-50-S